DEPARTMENT OF TRANSPORTATION

Federal Motor Carrier Safety Administration

[Docket No. FMCSA-2011-0022]

Parts and Accessories Necessary for Safe Operation; Exemption Renewal for KBC Companies, LLC d/b/a Innovative Electronics

AGENCY: Federal Motor Carrier Safety Administration (FMCSA), DOT.

ACTION: Notice of renewal of exemption; request for comments.

SUMMARY: The Federal Motor Carrier Safety Administration (FMCSA) renews an exemption that allows commercial motor vehicle operators to use trailer-mounted electric brake controllers which monitor and actuate electric trailer brakes based on inertial forces developed in response to the braking action of the towing vehicle. The Agency has concluded that granting this exemption renewal to allow the use of trailer-mounted electric brake controllers will maintain a level of safety that is equivalent to, or greater than, the level of safety achieved without the exemption. However, the Agency requests comments on this issue, especially from anyone who believes this standard will not be maintained.

DATES: This exemption is effective from February 11, 2015 through February 13, 2017.

FOR FURTHER INFORMATION CONTACT: Mr. Luke W. Loy, Vehicle and Roadside Operations Division, Office of Bus and Truck Standards and Operations, MC-PSV, (202) 366-0676, Federal Motor Carrier Safety Administration, 1200 New Jersey Avenue SE., Washington, DC 20590-0001.

Docket: For access to the docket to read background documents or public comments submitted in response to previous notices concerning the exemption application, go to www.regulations.gov at any time or visit Room W12-140 on the ground level of the West Building, 1200 New Jersey Avenue SE., Washington, DC, between 9 a.m. and 5 p.m., ET, Monday through Friday, except Federal holidays. The on-line Federal document management system is available 24 hours each day, 365 days each year. The docket number is listed at the beginning of this notice.

SUPPLEMENTARY INFORMATION:

Background

FMCSA has authority under 49 U.S.C. 31136(e) and 31315 to grant exemptions from certain parts of the Federal Motor Carrier Safety Regulations. FMCSA must publish a notice of each exemption request in the Federal Register (49 CFR 381.315(a)). The Agency must provide the public an opportunity to inspect the information relevant to the application, including any safety analyses that have been conducted. The Agency must also provide an opportunity for public comment on the request.

The Agency reviews safety analyses and public comments submitted, and determines whether granting the exemption would likely achieve a level of safety equivalent to, or greater than, the level that would be achieved by the current regulation (49 CFR 381.305). The decision of the Agency must be published in the Federal Register (49 CFR 381.315(b)) with the reasons for denying or granting the application and, if granted, the name of the person or class of persons receiving the exemption, and the regulatory provision from which the exemption is granted. The notice must also specify the effective period and explain the terms and conditions of the exemption. The exemption may be renewed (49 CFR 381.300(b)).

KBC Companies, LLC d/b/a Innovative Electronics has requested renewal of its exemption from 49 CFR 393.48 and 49 CFR 393.49 to allow commercial motor vehicle operators to tow trailers equipped with trailer-mounted electric brake controllers.

Basis for Renewing Exemption

On February 10, 2011(76 FR 7623), FMCSA published a notice requesting public comment on Innovative Electronics, Inc.'s application for an exemption from certain requirements in 49 CFR 393.48 and 49 CFR 393.49 to allow commercial motor vehicle operators to tow trailers equipped with trailer-mounted electric brake controllers. A correction was published on February 22, 2011 (76 FR 9853). After reviewing the public responses to the notice, the Agency granted the exemption on November 29, 2011 (76 FR 73763).

Innovative Electronics, Inc. has applied for a renewal of the two-year exemption. The FMCSA has determined preliminarily that it is appropriate to renew the exemption pending a review of public comments in response to the application for another two-year period, until February 13, 2017.

FMCSA is not aware of any evidence showing that the use of trailer-mounted electric brake controllers in compliance with the conditions of the original exemption has resulted in any degradation in safety. While trailer-mounted electric brake controllers are currently available for trailers not used for commercial purposes, renewing the exemption will allow rental companies to continue to rent trailers equipped with trailer-mounted electric brake controllers to commercial customers whose tow vehicles are not equipped with electric brake controllers. The Agency believes that extending the exemption for a period of two years will likely achieve a level of safety that is equivalent to, or greater than, the level of safety achieved without the exemption.

Terms and Conditions for the Exemption

During the renewal period, motor carriers must continue to meet the requirements of §§ 393.48(d) and 393.49(c) for hydraulic surge brakes, except that, for purposes of the exemption, those provisions shall have the following meaning, with “surge brake” replaced by “trailer-mounted electric brake controller.”

§ 393.48 Brakes to be operative.

* * * * *

(d)(1) Trailer-mounted electric brake controllers are allowed on:

(i) Any trailer with a gross vehicle weight rating (GVWR) of 12,000 pounds or less, when its GVWR does not exceed 1.75 times the GVWR of the towing vehicle; and

(ii) Any trailer with a GVWR greater than 12,000 pounds, but less than 20,001 pounds, when its GVWR does not exceed 1.25 times the GVWR of the towing vehicle.

(2) The gross vehicle weight (GVW) of a trailer equipped with a trailer-mounted electric brake controller may be used instead of its GVWR to calculate compliance with the weight ratios specified in paragraph (d)(1) of this section when the trailer manufacturer's GVWR label is missing.

(3) The GVW of a trailer equipped with a trailer-mounted electric brake controller must be used to calculate compliance with the weight ratios specified in paragraph (d)(1) of this section when the trailer's GVW exceeds its GVWR.

(4) The trailer equipped with a trailer-mounted electric brake controller must meet the requirements of § 393.40.

§ 393.49 Control valves for brakes.

* * * * *

(c) Trailer-mounted electric brake controller exception. This requirement is not applicable to trailers equipped with trailer-mounted electric brake controllers that satisfy the conditions specified in 393.48(d).

The exemption will be valid for two years unless rescinded earlier by FMCSA. The exemption will be rescinded if: (1) Motor carriers and/or commercial motor vehicles fail to comply with the terms and conditions of the exemption; (2) the exemption has resulted in a lower level of safety than was maintained before it was granted; or (3) continuation of the exemption would not be consistent with the goals and objectives of 49 U.S.C. 31136(e) and 31315.

Request for Comments

FMCSA requests comments from parties with data concerning the safety record of motor carriers utilizing trailer-mounted electric brake controllers, in accordance with the conditions of the original exemption, by March 13, 2015. The Agency will evaluate any adverse evidence submitted and, if safety is being compromised or if continuation of the exemption would not be consistent with the goals and objectives of 49 U.S.C. 31136(e) and 31315(b)(1), FMCSA will take immediate steps to revoke the exemption.

Preemption

During the period the exemption is in effect, no State shall enforce any law or regulation that conflicts with or is inconsistent with this exemption to allow commercial motor vehicle operators to use trailer-mounted electric brake controllers which monitor and actuate electric trailer brakes based on inertial forces developed in response to the braking action of the towing vehicle.

Issued On: January 30, 2015.
T.F. Scott Darling, III,
Acting Administrator.

[FR Doc. 2015-02810 Filed 2-10-15; 8:45 am]

BILLING CODE 4910-EX-P